DEPARTMENT OF TRANSPORTATION

Federal Aviation Administration

14 CFR Part 39

[Docket No. FAA-2017-1178; Product Identifier 2014-NM-144-AD; Amendment 39-19140; AD 2017-26-09]

RIN 2120-AA64

Airworthiness Directives; ATR—GIE Avions de Transport Régional Airplanes

AGENCY: Federal Aviation Administration (FAA), DOT.

ACTION: Final rule; request for comments.

SUMMARY: We are adopting a new airworthiness directive (AD) for certain ATR—GIE Avions de Transport Régional Model ATR 42-500 airplanes and Model ATR 72-212A airplanes. This AD requires a one-time inspection for damage of the engine fire extinguishing pipes and incorrect pipe installation, and corrective actions if necessary. This AD was prompted by a report of damage to an engine fire extinguishing pipe due to chafing between the pipe and a fastener assembly; the chafing occurred as a result of incorrect installation of the pipe. We are issuing this AD to address the unsafe condition on these products.

DATES: This AD becomes effective January 18, 2018.

The Director of the Federal Register approved the incorporation by reference of certain publications listed in this AD as of January 18, 2018.

We must receive comments on this AD by February 20, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC, between 9 a.m. and 5 p.m., Monday through Friday, except Federal holidays.

For service information identified in this final rule, contact ATR—GIE Avions de Transport Régional, 1, Allée Pierre Nadot, 31712 Blagnac Cedex, France; telephone +33 (0) 5 62 21 62 21; fax +33 (0) 5 62 21 67 18; email continued.airworthiness@atr-aircraft.com. You may view this referenced service information at the FAA, Transport Standards Branch, 1601 Lind Avenue SW, Renton, WA. For information on the availability of this material at the FAA, call 425-227-1221. It is also available on the internet at http://www.regulations.gov by searching for and locating Docket No. FAA-2017-1178.

Examining the AD Docket

You may examine the AD docket on the internet at http://www.regulations.gov by searching for and locating Docket No. FAA-2017-1178; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Shahram Daneshmandi, Aerospace Engineer, International Section, Transport Standards Branch, FAA, 1601 Lind Avenue SW, Renton, WA 98057-3356; telephone 425-227-1112; fax 425-227-1149.

SUPPLEMENTARY INFORMATION:

Discussion

The European Aviation Safety Agency (EASA), which is the aviation authority for the Member States of the European Union, has issued EASA Airworthiness Directive 2014-0144R1, dated June 10 2014; corrected June 11, 2014 (referred to after this as the Mandatory Continuing Airworthiness Information, or “the MCAI”), to correct an unsafe condition for certain ATR—GIE Avions de Transport Régional Model ATR 42-500 airplanes and Model ATR 72-212A airplanes. The MCAI states:

Damage of an engine fire extinguishing pipe was reported on an in-service ATR 72-212A aeroplane. The damage was induced by chafing between the engine fire extinguishing pipe and a fastener assembly installed between flap arm and hinge flap at rib 4 during flaps extension to the 30 degrees position. The subsequent investigation also determined that the chafing occurred as a result of an incorrect (back to front) installation of the pipe.

This condition, if not detected and corrected, could lead to damage of the fire extinguishing pipe, possibly generating a leak, leading to loss of available extinguishing agent and resulting in reduced capability to extinguish an engine fire.

To address this potential unsafe condition, ATR issued Service Bulletins (SB) ATR42-26-0031 and ATR72-26-1027 to provide inspection instructions, as applicable to aeroplane model.

For the reasons described above, this [EASA] AD requires a one-time [general] visual inspection [for damage] of the affected area [and incorrect pipe installation] and, depending on findings, accomplishment of applicable corrective actions.

Damaged pipes are defined as pipes that have wear due to chafing without evidence of cracking. Corrective actions include replacing damaged pipes, ensuring correct alignment, applying protective sealant and corrosion inhibiting compound, replacing damaged fasteners with new fasteners, and repairing flap arms and flap hinges. You may examine the MCAI on the internet at http://www.regulations.gov by searching for and locating Docket No. FAA-2017-1178.

Related Service Information Under 1 CFR Part 51

ATR has issued the following service information.

• ATR Service Bulletin ATR42-26-0031, dated April 30, 2014. This service information describes procedures for inspecting for damage and incorrect installation of the left-hand and right-hand engine fire extinguishing pipes, and corrective actions.

• ATR Service Bulletin ATR72-26-1027, dated April 30, 2014. This service information describes procedures for inspecting for damage and incorrect installation of the left-hand and right-hand engine fire extinguishing pipes, and corrective actions.

These documents are distinct since they apply to different airplane models. This service information is reasonably available because the interested parties have access to it through their normal course of business or by the means identified in the ADDRESSES section of this AD.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

FAA's Determination of the Effective Date

There are currently no domestic operators of this product. Therefore, we find good cause that notice and opportunity for prior public comment are unnecessary. In addition, for the reasons stated above, we find that good cause exists for making this amendment effective in less than 30 days.

Comments Invited

This AD is a final rule that involves requirements affecting flight safety, and we did not precede it by notice and opportunity for public comment. We invite you to send any written relevant data, views, or arguments about this AD. Send your comments to an address listed under the ADDRESSES section. Include “Docket No. FAA-2017-1178; Product Identifier 2014-NM-144-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

Currently, there are no affected U.S.-registered airplanes. If an affected airplane is imported and placed on the U.S. Register in the future, we provide the following cost estimates to comply with this AD:

We estimate that it will take about 2 work-hours per product to comply with the basic requirements of this AD. The average labor rate is $85 per work-hour. Required parts will cost $0 per product. Based on these figures, we estimate the cost of this AD will be $170 per product.

We also estimate that any necessary follow-on actions will take about 16 work-hours and require parts costing $1,360, for a cost of $2,720 per product. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-26-09 ATR—GIE Avions de Transport Régional: Amendment 39-19140; Docket No. FAA-2017-1178; Product Identifier 2014-NM-144-AD.

(a) Effective Date

This AD becomes effective January 18, 2018.

(b) Affected ADs

None.

(c) Applicability

This AD applies to the airplanes identified in paragraphs (c)(1) and (c)(2) of this AD, certificated in any category.

(1) ATR—GIE Avions de Transport Régional Model ATR42-500 airplanes; manufacturer serial number (MSN) 859, and MSNs 1001 through 1010 inclusive.

(2) ATR—GIE Avions de Transport Régional Model ATR72-212A airplanes; MSN 988 and 989; MSNs 993 through 1000 inclusive, except MSN 996; and MSNs 1020 through 1142 inclusive, except MSNs 1071, 1135, 1139, 1140, and 1141.

(d) Subject

Air Transport Association (ATA) of America Code 26, Fire protection.

(e) Reason

This AD was prompted by a report of damage of an engine fire extinguishing pipe due to chafing between the pipe and a certain fastener assembly; the chafing occurred as a result of incorrect installation of the pipe. We are issuing this AD to detect and correct damage of the fire extinguishing pipes, which could generate a leak, resulting in the loss of available extinguishing agent and reduced capability to extinguish an engine fire.

(f) Compliance

Comply with this AD within the compliance times specified, unless already done.

(g) Inspection for Damaged Fire Extinguishing Pipes

Within 150 flight hours or 30 days, whichever occurs first after the effective date of this AD, accomplish a one-time inspection for damage of the left-hand (LH) and right-hand (RH) engine fire extinguishing pipes, in accordance with the Accomplishment Instructions of ATR Service Bulletin ATR42-26-0031, dated April 30, 2014; or ATR Service Bulletin ATR72-26-1027, dated April 30, 2014; as applicable.

(h) Measurement of Wear Depth

If, during the inspection required by paragraph (g) of this AD, any damage is detected on an engine fire extinguishing pipe, before further flight, remove the damaged pipe, measure the maximum wear depth in accordance with the Accomplishment Instructions of ATR Service Bulletin ATR42-26-0031, dated April 30, 2014; or ATR Service Bulletin ATR72-26-1027, dated April 30, 2014; as applicable.

(i) Corrective Actions and Related Investigative Actions for Major Wear Depth

If, during a measurement required by paragraph (h) of this AD, a depth of wear greater than 0.5 mm (0.0197 inch) is detected, before further flight, accomplish the actions specified by paragraphs (i)(1), (i)(2), and (i)(3) of this AD, in accordance with the Accomplishment Instructions of ATR Service Bulletin ATR42-26-0031, dated April 30, 2014; or ATR Service Bulletin ATR72-26-1027, dated April 30, 2014; as applicable.

(1) Replace the damaged pipe with a new engine fire extinguishing pipe.

(2) Inspect the LH and RH flap parts (flap fasteners, flap arms, hinge flaps) at rib 4 for damage; and, depending on the findings, accomplish the applicable corrective actions, except, where ATR Service Bulletins ATR42-26-0031 and ATR72-26-1027, both dated April 30, 2014, specify to contact ATR for appropriate action, before further flight, accomplish corrective actions in accordance with the procedures specified in paragraph (n)(2) of this AD.

(3) Accomplish a functional test of the engine fire extinguishing system. If the part fails the test, before further flight, do corrective actions, repeat the test, and do applicable corrective actions until the part passes the test.

(j) Corrective Actions for Minor Wear Depth

If, during a measurement required by paragraph (h) of this AD, a depth of wear less than, or equal to, 0.5 mm (0.0197 inch) is detected, before further flight, accomplish the actions required by paragraphs (j)(1), (j)(2), and (j)(3) of this AD in accordance with the Accomplishment Instructions of ATR Service Bulletin ATR42-26-0031, dated April 30, 2014; or ATR Service Bulletin ATR72-26-1027, dated April 30, 2014; as applicable.

(1) Do the actions specified by either paragraph (j)(1)(i) or (j)(1)(ii) of this AD.

(i) Replace the damaged pipe with a new engine fire extinguishing pipe.

(ii) Re-install the damaged pipe correctly, and, within 30 days after the inspection as required by paragraph (g) of this AD, replace the damaged pipe with a new engine fire extinguishing pipe.

(2) Inspect the LH and RH flap parts (flap fasteners, flap arms, hinge flaps) at rib 4 for damage; and, depending on the findings, accomplish all applicable corrective actions before further flight, except, where ATR Service Bulletins ATR42-26-0031 and ATR72-26-1027, both dated April 30, 2014, specify to contact ATR for appropriate action, before further flight, accomplish corrective actions in accordance with the procedures specified in paragraph (n)(2) of this AD.

(3) Accomplish a functional test of the engine fire extinguishing system. If the part fails the test, before further flight, do corrective actions, repeat the test, and do applicable corrective actions until the part passes the test.

(k) Pipe Replacement

Within 30 days after the replacement specified by paragraph (h) of this AD, unless already accomplished as required by paragraph (i)(1) or (j)(1) of this AD, as applicable, replace the damaged fire extinguisher pipe in accordance with the instructions of ATR Service Bulletin ATR42-26-0031, dated April 30, 2014; or ATR Service Bulletin ATR72-26-1027, dated April 30, 2014; as applicable, and, concurrently, accomplish the actions specified by paragraphs (j)(2) and (j)(3) of this AD.

(l) Corrective Action for Incorrect Pipe Installation

If, during the inspection required by paragraph (g) of this AD, no damage is detected, before further flight, verify the correct installation of the extinguishing pipes, in accordance with the Accomplishment Instructions of ATR Service Bulletins ATR42-26-0031 or ATR72-26-1027, both dated April 30, 2014, as applicable. If any engine fire extinguishing pipe is found incorrectly installed, before further flight, re-install the pipe correctly and accomplish a functional test of the engine fire extinguishing system in accordance with the Accomplishment Instructions of ATR Service Bulletin ATR42-26-0031, dated April 30, 2014; or ATR Service Bulletin ATR72-26-1027, dated April 30, 2014; as applicable. If the part fails the test, before further flight, do corrective actions, repeat the test, and do applicable corrective actions until the part passes the test.

(m) Corrective Action for Damage Beyond Limits

If, during any inspection specified by paragraph (i)(2) or (j)(2) of this AD, as applicable, any damage is detected on flap arms or hinge flaps that is determined to be beyond the defined limits indicated in ATR Structural Repair Manual (SRM) 511010-01-001-A01, dated October 1, 2014, before further flight, accomplish corrective actions in accordance with the procedures specified in paragraph (n)(2) of this AD.

(n) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (l)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or ATR—GIE Avions de Transport Régional's EASA Design Organization Approval (DOA). If approved by the DOA, the approval must include the DOA-authorized signature.

(o) Related Information

(1) Refer to Mandatory Continuing Airworthiness Information (MCAI) EASA Airworthiness Directive 2014-0144R1, dated June10, 2014; corrected June 11, 2014; for related information. You may examine the MCAI on the internet at http://www.regulations.gov by searching for and locating Docket No. FAA-2017-1178.

(2) For more information about this AD, contact Shahram Daneshmandi, Aerospace Engineer, International Section, Transport Standards Branch, FAA, 1601 Lind Avenue SW, Renton, WA 98057-3356; telephone 425-227-1112; fax 425-227-1149.

(3) Service information identified in this AD that is not incorporated by reference is available at the addresses specified in paragraphs (n)(3) and (n)(4) of this AD.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) ATR Service Bulletin ATR42-26-0031, dated April 30, 2014.

(ii) ATR Service Bulletin ATR72-26-1027, dated April 30, 2014.

(3) For service information identified in this AD, contact ATR—GIE Avions de Transport Régional, 1, Allée Pierre Nadot, 31712 Blagnac Cedex, France; telephone +33 (0) 5 62 21 62 21; fax +33 (0) 5 62 21 67 18; email continued.airworthiness@atr-aircraft.com.

(4) You may view this service information at the FAA, Transport Standards Branch, 1601 Lind Avenue SW, Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 20, 2017.
Michael Kaszycki,
Acting Director, System Oversight Division, Aircraft Certification Service.

[FR Doc. 2017-28146 Filed 1-2-18; 8:45 am]

BILLING CODE 4910-13-P